DEPARTMENT OF HEALTH AND HUMAN SERVICES

DEPARTMENT OF AGRICULTURE

Announcement of the Seventh 2015 Dietary Guidelines Advisory Committee Meeting

AGENCY: Office of the Secretary, Office of the Assistant Secretary for Health Department of Health and Human Services; and Food, Nutrition and Consumer Services and Research, Education, and Economics, U.S. Department of Agriculture.

ACTION: Notice.

SUMMARY: As stipulated by the Federal Advisory Committee Act (FACA), the U.S. Department of Health and Human Services (HHS), in collaboration with the U.S. Department of Agriculture (USDA), is hereby giving notice that a meeting of the 2015 Dietary Guidelines Advisory Committee (DGAC) will be held and will be open to the public by Internet access only.

DATES: This meeting will be held on December 15, 2014, from 8:00 a.m.-5:30 p.m. E.S.T.

ADDRESSES: The meeting will be accessible to the public by webcast on the Internet only.

FOR FURTHER INFORMATION CONTACT: Designated Federal Officer (DFO), 2015 DGAC, Richard D. Olson, M.D., M.P.H.; Office of Disease Prevention and Health Promotion, OASH/HHS; 1101 Wootton Parkway, Suite LL100 Tower Building; Rockville, MD 20852: Telephone: (240) 453-8280; Fax: (240) 453-8281; Alternate DFO, 2015 DGAC, Kellie (O'Connell) Casavale, Ph.D., R.D., Nutrition Advisor; Office of Disease Prevention and Health Promotion, OASH/HHS; 1101 Wootton Parkway, Suite LL100 Tower Building; Rockville, MD 20852: Telephone: (240) 453-8280; Fax: (240) 453-8281; Lead USDA Co-Executive Secretary, Colette I. Rihane, M.S., R.D., Director, Office of Nutrition Guidance and Analysis, Center for Nutrition Policy and Promotion, USDA; 3101 Park Center Drive, Room 1034; Alexandria, VA 22302; Telephone: (703) 305-7600; Fax: (703) 305-3300; and/or USDA Co-Executive Secretary, Shanthy A. Bowman, Ph.D., Nutritionist, Food Surveys Research Group, Beltsville Human Nutrition Research Center, Agricultural Research Service, USDA; 10300 Baltimore Avenue, BARC-West Bldg 005, Room 125; Beltsville, MD 20705-2350; Telephone: (301) 504-0619. Additional information about the 2015 DGAC and the agenda for this meeting will be made available on the Internet at www.DietaryGuidelines.gov.

SUPPLEMENTARY INFORMATION: Under Section 301 of Public Law 101-445 (7 U.S.C. 5341, the National Nutrition Monitoring and Related Research Act of 1990, Title III) the Secretaries of Health and Human Services (HHS) and Agriculture (USDA) are directed to issue at least every five years a report titled Dietary Guidelines for Americans. The law instructs that this publication shall contain nutritional and dietary information and guidelines for the general public, shall be based on the preponderance of scientific and medical knowledge current at the time of publication, and shall be promoted by each federal agency in carrying out any federal food, nutrition, or health program. The Dietary Guidelines for Americans was issued voluntarily by HHS and USDA in 1980, 1985, and 1990; the 1995 edition was the first statutorily mandated report, followed by subsequent editions at appropriate intervals. To assist with satisfying the mandate, a discretionary federal advisory committee is established every five years to provide independent, science-based advice and recommendations. The DGAC consists of a panel of experts who were selected from the public/private sector. Individuals who were selected to serve on the Committee have current scientific knowledge in the field of human nutrition and chronic disease.

Appointed Committee Members: Fourteen members serve on the 2015 DGAC. They were appointed by the Secretaries of HHS and USDA in May 2013. Information on the DGAC membership is available at www.DietaryGuidelines.gov.

Authority: The 2015 DGAC is authorized under 42 U.S.C. 217a, Section 222 of the Public Health Service Act, as amended.

Committee's Task: The work of the DGAC is solely advisory in nature and time-limited. The Committee is tasked with developing recommendations based on the preponderance of current scientific and medical knowledge using a systematic review approach. The DGAC will examine the current Dietary Guidelines for Americans, take into consideration new scientific evidence and current resource documents, and develop a report that is to be given to the Secretaries of HHS and USDA. The report will outline science-based recommendations and rationales which will serve as the basis for developing the eighth edition of the Dietary Guidelines for Americans. This will be the seventh meeting of the 2015 DGAC. Meeting dates, times, locations, and other relevant information are announced at least 15 days in advance of each meeting via Federal Register notice. As stipulated in the charter, the Committee will be terminated after delivery of its final report to the Secretaries of HHS and USDA or two years from the date the charter was filed, whichever comes first.

Purpose of the Meeting: In accordance with FACA and to promote transparency of the process, deliberations of the Committee will occur in a public forum. At this meeting, the Committee will continue its deliberations.

Meeting Agenda: The meeting agenda will include (a) review of Committee work since the last public meeting and (b) review of the recommendations of the Committee's draft report.

Meeting Registration: The meeting will be publicly accessible by webcast on the Internet. Registration is required and is expected to open on December 2, 2014. To register, please go to www.DietaryGuidelines.gov and click on the link for “Meeting Registration.” To register by phone, please call National Capitol Contracting, Andrea Popp at (703) 243-9696 by 5:00 p.m. E.S.T. December 10, 2014. Registration must include name, affiliation, and phone number or email address. After registering, individuals will receive webcast access information via email.

Written Public Comments: Written comments from the public will continue to be accepted throughout the Committee's deliberative process. Written public comments can be submitted and/or viewed at www.DietaryGuidelines.gov using the “Submit Comments” and “Read Comments” links, respectively. There is no deadline for comment submission prior to this public meeting. The Committee requests that commenters provide a brief (250 words or less) summary of the points or issues in the comment text box. If commenters are providing literature or other resources, complete citations or abstracts and electronic links to full articles or reports are preferred instead of attaching these documents to the comment. All comments to the Committee must be received by midnight (E.S.T.) on December 30, 2014, after which the time period for submitting written comments to the Committee expires. The ability to view public comments will continue to be available. After the Committee's report is submitted to the Secretaries of HHS and USDA, the public will be notified via the Federal Register (a) that the report is available at www.DietaryGuidelines.gov, (b) of a request for public comments on the report, and (c) of a date and registration instructions for a public comment meeting.

Meeting Documents: Documents pertaining to Committee deliberations, including meeting agendas, summaries, and webcasts will be available on www.DietaryGuidelines.gov under “Meetings.” Meeting information will continue to be accessible online, at the NIH Library, and upon request at the Office of Disease Prevention and Health Promotion, OASH/HHS; 1101 Wootton Parkway, Suite LL100 Tower Building; Rockville, MD 20852: Telephone (240) 453-8280; Fax: (240) 453-8281.

Dated: November 13, 2014.
Don Wright,
Deputy Assistant Secretary for Health, Office of Disease Prevention and Health Promotion, Office of the Assistant Secretary for Health, U.S. Department of Health and Human Services.
Dated: November 7, 2014.
Angela Tagtow,
Executive Director, Center for Nutrition Policy and Promotion, U.S. Department of Agriculture.
Dated: November 10, 2014.
Chavonda Jacobs-Young,
Administrator, Agricultural Research Service, U.S. Department of Agriculture.

[FR Doc. 2014-27992 Filed 11-25-14; 8:45 am]

BILLING CODE 4150-32-P